FEDERAL COMMUNICATIONS COMMISSION

47 CFR Part 90

[WT Docket No. 01-146; RM-9966; FCC 04-212]

Rules and Policies for Applications and Licensing of Low Power Operations in the Private Land Mobile Radio 450-470 MHz Band

AGENCY: Federal Communications Commission.

ACTION: Final rule; denial of petition for reconsideration.

SUMMARY: In this document, the Commission addresses a petition for reconsideration of the Report and Order in this proceeding filed by the American Association of Paging Carriers (AAPC). AAPC requests that the Commission prohibit the licensing of stations on frequencies (or channels) 12.5 kHz removed from eight specific part 90 450-470 MHz band paging frequencies.

FOR FURTHER INFORMATION CONTACT: Scot Stone, Public Safety and Critical Infrastructure Division, Wireless Telecommunications Bureau, at (202) 418-0680, or TTY (202) 418-7233.

SUPPLEMENTARY INFORMATION: This is a summary of the Commission's Order, FCC 04-212, adopted on September 1, 2004, and released on September 8, 2004. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: www.fcc.gov. Alternative formats are available to persons with disabilities by contacting Brian Millin at (202) 418-7426 or TTY (202) 418-7365 or at bmillin@fcc.gov.

1. In the Order, the Commission concludes that to the extent that the AAPC petition requests these offset channels be eliminated it is untimely filed. The Report and Order did not establish these channels; they have been available for years. Also, eliminating these channels was not an issue squarely raised in the context of the proceeding. In addition, we note that the Commission previously addressed the issue of whether to extend part 22 rules to reclassified part 90 services. A request to eliminate licensing of the subject eight offset channels would have been the proper subject of a reconsideration petition then or in the Reframing Report and Order when the Commission decided to establish a new band plan for the PLMR 450-470 MHz band. Likewise, to the extent the AAPC petition indirectly challenges earlier Commission decisions it is also procedurally flawed because it is an impermissible collateral attack on final Commission decisions.

2. Additionally, the Commission declined to conform rules applicable to part 90 and part 22 CMRS operations.

I. Procedural Matters

A. Paperwork Reduction Act

3. The Order does not contain any new or modified information collection.

B. Final Regulatory Flexibility Analysis

4. As required by the Regulatory Flexibility Act (“RFA”) of 1980, as amended, an Initial Regulatory Flexibility Analysis (“IRFA”) was incorporated in the Notice of Proposed Rulemaking (“NPRM”). The FCC sought written public comment on the proposals in the NPRM, including comment on the IRFA. The present Final Regulatory Flexibility Analysis (“FRFA”) conforms to the RFA.

II. Ordering Clauses

4. Accordingly, it is ordered that, pursuant to the authority of Sections 4(i) and 303(r) of the Communications Act of 1934, as amended, 47 U.S.C. 154(i) and 303(r), and section 1.115 of the Commission's Rules, 47 CFR 1.115, the petition for reconsideration filed by American Association of Paging Carriers is denied, and the proceeding is hereby terminated.

5. The Commission will not send a copy of this Order pursuant to the Congressional Review Act, see 5 U.S.C. 801(a)(1)(A), because the adopted rules are rules of particular applicability. The Commission declined to change rules adopted in a previous proceeding.

Federal Communications Commission.
Marlene H. Dortch,
Secretary.

[FR Doc. 04-22742 Filed 10-8-04; 8:45 am]

BILLING CODE 6712-01-P